ENVIRONMENTAL PROTECTION AGENCY

[EPA-HQ-OAR-2023-0112; FRL-12494-01-OMS]

Agency Information Collection Activities; Submission to the Office of Management and Budget for Review and Approval; Comment Request; NSPS for Calciners and Dryers in Mineral Industries (Renewal)

AGENCY: Environmental Protection Agency (EPA).

ACTION: Notice.

SUMMARY: The Environmental Protection Agency (EPA) has submitted an information collection request (ICR), NSPS for Calciners and Dryers in Mineral Industries (EPA ICR Number 0746.12, OMB Control Number 2060-0251) to the Office of Management and Budget (OMB) for review and approval in accordance with the Paperwork Reduction Act. This is a proposed extension of the ICR, which is currently approved through December 31, 2024. Public comments were previously requested via the Federal Register on May 18, 2023 during a 60-day comment period. This notice allows for an additional 30 days for public comments.

DATES: Comments may be submitted on or before January 13, 2025.

ADDRESSES: Submit your comments, referencing Docket ID Number EPA-HQ-OAR-2023-0112, to EPA online using https://www.regulations.gov/ (our preferred method), by email to a-and-r-docket@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: This is a proposed extension of the ICR, which is currently approved through January 31, 2025. An agency may not conduct or sponsor and a person is not required to respond to a collection of information unless it displays a currently valid OMB control number.

Public comments were previously requested via the Federal Register on April 23, 2024, during a 60-day comment period (89 FR 30358). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The New Source Performance Standards (NSPS) for Calciners and Dryers in Mineral Industries (40 CFR part 60, subpart UUU) were proposed on April 23, 1986; promulgated on September 28, 1992; and amended on July 29, 1993. These regulations apply only to new calciners and dryers at mineral processing plants that either process or produce either any of the following minerals and their concentrates or any mixture of which the majority is any of the following minerals or a combination of these minerals: alumina, ball clay, bentonite, diatomite, feldspar, fire clay, fuller's earth, gypsum, industrial sand, kaolin, lightweight aggregate, magnesium compounds, perlite, roofing granules, talc, titanium dioxide, and vermiculite. Particulate matter (PM) is the pollutant regulated under this subpart. Feed and product conveyors are not considered part of the affected facility. Facilities subject to NSPS Subpart LL, Metallic Mineral Processing Plants are not subject to these particular standards. There are additional processes and process units at mineral processing plants listed at Section 60.730(b), which are not subject to the provisions of this Subpart. New facilities include those that commenced construction, modification or reconstruction after the date of proposal. This information is being collected to assure compliance with 40 CFR part 60, subpart UUU.

Form Numbers: None.

Respondents/affected entities: Mineral processing plants that use calciners and dryers.

Respondent's obligation to respond: Mandatory (40 CFR part 60, subpart UUU).

Estimated number of respondents: 167 (total).

Frequency of response: Semiannual.

Total estimated burden: 6,630 hours (per year). Burden is defined at 5 CFR 1320.3(b).

Total estimated cost: $990,000 (per year), includes $154,000 annualized capital or operation & maintenance costs.

Changes in the Estimates: There is no change in burden from the most recently approved ICR as currently identified in the OMB Inventory of Approved Burdens. This is due to two considerations. First, the regulations have not changed over the past three years and are not anticipated to change over the next three years. Second, the growth rate for this industry is very low or non-existent, so there is no significant change in the overall burden. There is an increase in capital and operation & maintenance costs due to an adjustment to increase from 2008 to 2022 $ using the CEPCI Equipment Cost Index.

Courtney Kerwin,
Director, Information Engagement Division.

[FR Doc. 2024-29421 Filed 12-12-24; 8:45 am]

BILLING CODE 6560-50-P